FEDERAL COMMUNICATIONS COMMISSION

[DA 24-531; FR ID 268151]

Notice of Renewal of Charter of the FCC Consumer Advisory Committee

AGENCY: Federal Communications Commission.

ACTION: Notice of renewal for the Charter for the FCC Consumer Advisory Committee.

SUMMARY: The Federal Communications Commission (Commission) hereby announces that the charter of the Consumer Advisory Committee (hereinafter Committee) has been renewed pursuant to the Federal Advisory Committee Act (FACA) and following consultation with the Committee Management Secretariat, General Services Administration.

DATES: The charter was renewed on October 9, 2024.

FOR FURTHER INFORMATION CONTACT: David M. Pérez, Designated Federal Officer, Federal Communications Commission: cac@fcc.gov or (202) 418-0664.

SUPPLEMENTARY INFORMATION:

Committee Renewal: After consultation with the General Services Administration, the Commission renewed the charter on October 9, 2024 providing the Committee with authorization to operate for two years.

The mission of the Committee is to make recommendations to the Commission on topics specified by the Commission relating to the needs and interests of consumers. The Commission will specify topics the Committee may consider in early 2025.

The Committee is organized under, and operates in accordance with, the provisions of the FACA (5 U.S.C. app. 2). The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate two years from the date that this renewal is effective (on or before October 9, 2026), or earlier upon the completion of its work as determined by the Chair, unless its charter is renewed prior to the termination date.

During the Committee's thirteenth term, it is anticipated that the Committee will meet, either in-person in Washington, DC or, if appropriate, by teleconference, for approximately three (3) one-day meetings. In addition, as needed, working groups or subcommittees (ad hoc or steering) will be established to facilitate the Committee's work between meetings of the full Committee. All meetings, including those of working groups and subcommittees, will be fully accessible to individuals with disabilities. A copy of the charter is available at www.fcc.gov/consumer-advisory-committee.

Federal Communications Commission.
Robert A. Garza,
Legal Advisor, Consumer and Governmental Affairs Bureau.

[FR Doc. 2024-30283 Filed 12-18-24; 8:45 am]

BILLING CODE 6712-01-P